DEPARTMENT OF TRANSPORTATION

Federal Aviation Administration

Forty-Eighth Meeting, RTCA Special Committee 186: Automatic Dependent Surveillance-Broadcast (ADS-B)

AGENCY: Federal Aviation Administration (FAA), DOT.

ACTION: Notice of RTCA Special Committee 186 Automatic Dependent Surveillance-Broadcast (ADS-B) meeting.

SUMMARY: The FAA is issuing this notice to advise the public of a meeting of RTCA Special Committee 186 Automatic Dependent Surveillance-Broadcast (ADS-B).

DATES: The meeting will be held June 2—5, 2009, at 9 a.m. on June 2-4 and on June 5th starting at 8 a.m. at RTCA and 2 p.m. in Europe (WebEx and Phone Bridge information to be provided).

ADDRESSES: RTCA Conference Rooms at 1828 L Street, NW., Suite 805, Washington, DC 20036.

Note: Any meeting day(s) for the Requirements Focus Group (RFG), RAD FRAC, will be announced at a later date * * * as required * * * based on the FRAC comments received.

FOR FURTHER INFORMATION CONTACT: (1) RTCA Secretariat, 1828 L Street, NW., Suite 805, Washington DC, 20036, (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186 meeting. The agenda will include:

June 2, Specific Working Group Sessions:

• RTCA—All Day, WG-1—ATSA SURF 1A, ARINC Room.

June 3, Specific Working Group Sessions:

• RTCA—All Day, WG-1—ATSA SURF 1A, ARINC Room.

• RTCA—All Day, WG-5, UAT MOPS, MacIntosh-NBAA Room & Hilton-ATA Room.

Feb. 4, Specific Working Group Sessions:

• RTCA—All Day, WG-1—ATSA SURF 1A, ARINC Room .

• RTCA—All Day, WG-5, UAT MOPS, MacIntosh-NBAA Room & Hilton-ATA Room.

June 5, Joint RTCA SC-186/EUROCAE WG-51: (Starting at 2 p.m. in Europe and 8 a.m. at RTCA)

• Opening Plenary (Chairman's Introductory Remarks, Review of Meeting Agenda.

• Review/Approval of the Forty-Seventh Meeting Summary, RTCA Paper No. 110-09/SC186-281.

• Consider for Approval—New Document—Safety and Performance Requirements (SPR) Standard for ADS-B-RAD, RTCA Paper No. 106-09/SC186-279.

• Discussion—1090 Extended Squitter MOPS—Revision.

• Review of EUROCAE WG-51 Activities.

• FAA Surveillance and Broadcast Services (SBS) Program—Status.

• Date, Place and Time of Next Meeting.

• Working Group Reports.

• WG-1—Operations and Implementation.

• WG-2—TIS-B MASPS.

• WG-3—1090 MHz MOPS.

• WG-4—Application Technical Requirements.

• WG-5—UAT MOPS.

• RFG—Requirements Focus Group.

• Wake vortex ad-hoc group report and recommended action plan.

• ADS-B ITP coordination with SC-214 for data link requirements.

• New Business.

• Other Business.

• Review Action Items/Work Programs.

• Adjourn Plenary.

Attendance is open to the interested public but limited to space availability. With the approval of the chairmen, members of the public may present oral statements at the meeting. Persons wishing to present statements or obtain information should contact the person listed in the “FOR FURTHER INFORMATION CONTACT” section. Members of the public may present a written statement to the committee at any time.

Issued in Washington, DC, on May 7, 2009.
Francisco Estrada C.,
RTCA Advisory Committee.

[FR Doc. E9-11257 Filed 5-13-09; 8:45 am]

BILLING CODE 4910-13-P